DEPARTMENT OF COMMERCE

National Oceanic and Atmospheric Administration

[I.D.020907B]

Marine Mammals; File No. 984-1814-01

AGENCY: National Marine Fisheries Service (NMFS), National Oceanic and Atmospheric Administration (NOAA), Commerce.

ACTION: Notice; receipt of application for amendment.

SUMMARY: Notice is hereby given that Dr. Terrie Williams, Department of Ecology and Evolutionary Biology, Center for Ocean Health - Long Marine Laboratory, University of California, 100 Shaffer Road, Santa Cruz, CA 95060, has requested an amendment to scientific research Permit No. 984-1814.

DATES: Written, telefaxed, or e-mail comments must be received on or before March 19, 2007.

ADDRESSES: The amendment request and related documents are available for review upon written request or by appointment in the following office(s):

Permits, Conservation and Education Division, Office of Protected Resources, NMFS, 1315 East-West Highway, Room 13705, Silver Spring, MD 20910; phone (301)713-2289; fax (301)427-2521; and

Southwest Region, NMFS, 501 West Ocean Blvd., Suite 4200, Long Beach, CA 90802-4213; phone (562)980-4001; fax (562)980-4018.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular amendment request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 984-1814-01.

FOR FURTHER INFORMATION CONTACT: Kate Swails or Tammy Adams, (301)713-2289.

SUPPLEMENTARY INFORMATION: The subject amendment to Permit No. 984-1814, issued on June 19, 2006 (71 FR 37060), is requested under the authority of the Marine Mammal Protection Act of 1972, as amended (16 U.S.C. 1361 et seq.), and the regulations governing the taking and importing of marine mammals (50 CFR part 216).

Permit No. 984-1814 authorizes the permit holder to capture up to 20 adult Weddell seals (Leptonychotes weddellii) and disturb up to 30 adult and 10 juvenile seals annuallyin McMurdo Sound, Antarctica. The animals have a data logger/video system attached, muscle biopsies and blood samples collected, and blubber thickness measured. The permit also authorizes up to 3 research-related mortalities per year. The permit holder requests an amendment to change the field season for this project from five August to December field seasons to three back to back field seasons over the course of two research years. This would allow researchers to investigate different light phases. Researchers would attach data logger/video systems to 24 adult seals and another 24 seals would have time-depth recorders attached annually. Researchers would measure metabolic rates of all captured seals using open-flow respirometry.

Concurrent with the publication of this notice in the Federal Register, NMFS is forwarding copies of this application to the Marine Mammal Commission and its Committee of Scientific Advisors.

Dated: February 12, 2007.
P. Michael Payne,
Chief, Permits, Conservation and Education Division, Office of Protected Resources, National Marine Fisheries Service.

[FR Doc. E7-2688 Filed 2-14-07; 8:45 am]

BILLING CODE 3510-22-S